DEPARTMENT OF COMMERCE

National Oceanic and Atmospheric Administration

[RTID 0648-XA901]

Western Pacific Fishery Management Council; Public Meetings

AGENCY: National Marine Fisheries Service (NMFS), National Oceanic and Atmospheric Administration (NOAA), Commerce.

ACTION: Notice of public meetings and a partially closed meeting.

SUMMARY: The Western Pacific Fishery Management Council (Council) will hold its 139th Scientific and Statistical Committee (SSC), Pelagic and International Standing Committee, Executive and Budget Standing Committee, and 185th Council meetings to take actions on fishery management issues in the Western Pacific Region. A portion of the Council's Executive and Budget Standing Committee meeting will be closed to the public for a briefing on litigation by counsel.

DATES: The meetings will be held between March 16 and March 25, 2021. For specific times and agendas, see SUPPLEMENTARY INFORMATION.

ADDRESSES: The meetings will be held by web conference via WebEx. Instructions for connecting to the web conference and providing oral public comments will be posted on the Council website at www.wpcouncil.org. For assistance with the web conference connection, contact the Council office at (808) 522-8220.

The following venues will be the host sites for the 185th Council meeting: Cliff Pointe, 304 W O'Brien Drive, Hagatna, Guam; BRI Building, Suite 205, Kopa Di Oru St., Garapan, Saipan, CNMI; and, Tedi of Samoa Building Suite 208B, Fagatogo Village, American Samoa.

FOR FURTHER INFORMATION CONTACT: Kitty M. Simonds, Executive Director, Western Pacific Fishery Management Council; phone: (808) 522-8220.

SUPPLEMENTARY INFORMATION: All times shown are in Hawaii Standard Time. The 139th SSC meeting will be held between 11 a.m. and 5 p.m. on March 16-18, 2021. The Pelagic and International Standing Committee will be held between 1 p.m. and 3 p.m. on March 22, 2021. The Executive and Budget Standing Committee meeting will be held between 3:30 p.m. and 5:30 p.m. on March 22, 2021. The portion of the Executive and Budget Standing Committee from 4 p.m. to 4:30 p.m. will be closed to the public in accordance with section 302(i)(3) of the Magnuson-Stevens Fishery Conservation and Management Act (MSA). The 185th Council meeting will be held between 11 a.m. and 5 p.m. on March 23-25, 2021.

Please note that the evolving public health situation regarding COVID-19 may affect the conduct of the March Council and its associated meetings. At the time this notice was submitted for publication, the Council anticipated convening the Council meeting by web conference with host site locations in Guam, CNMI and American Samoa. Council staff will monitor COVID-19 developments and will determine the extent to which in-person public participation at host sites will be allowable consistent with applicable local and federal safety and health guidelines. If public participation will be limited to web conference only or on a first-come-first-serve basis consistent with applicable guidelines, the Council will post notice on its website at www.wpcouncil.org.

Agenda items noted as “Final Action” refer to actions that result in Council transmittal of a proposed fishery management plan, proposed plan amendment, or proposed regulations to the U.S. Secretary of Commerce, under sections 304 or 305 of the MSA. In addition to the agenda items listed here, the Council and its advisory bodies will hear recommendations from Council advisors. An opportunity to submit public comment will be provided throughout the agendas. The order in which agenda items are addressed may change and will be announced in advance at the Council meeting. The meetings will run as late as necessary to complete scheduled business.

Background documents for the 185th Council meeting will be available at www.wpcouncil.org. Written public comments on final action items at the 185th Council meeting should be received at the Council office by 5 p.m. HST, March 19, 2021, and should be sent to Kitty M. Simonds, Executive Director; Western Pacific Fishery Management Council, 1164 Bishop Street, Suite 1400, Honolulu, HI 96813, phone: (808) 522-8220 or fax: (808) 522-8226; or email: info.wpcouncil@noaa.gov. Written public comments on all other agenda items may be submitted for the record by email throughout the duration of the meeting. Instructions for providing oral public comments during the meeting will be posted on the Council website. This meeting will be recorded for the purposes of generating the minutes of the meeting.

Agenda for the 139th Scientific and Statistical Committee Meeting

Tuesday, March 16, 2021, 11 a.m. to 5 p.m.

1. Introductions

2. Approval of Draft Agenda and Assignment of Rapporteurs

3. Status of the 138th SSC Meeting Recommendations

4. Report from Pacific Islands Fisheries Science Center Director

5. Program Planning and Research

A. NMFS Briefing on Executive Order 14008 on Tackling the Climate Crisis at Home and Abroad

B. SSC Three-Year Plan

C. Updates to the Pacific Island Stock Assessment Prioritization

D. Integration of the `Catch it Log it' app information into fisheries assessments and monitoring

E. Socio-Economic Context for Fisher-Shark Interaction in the Marianas

F. Public Comment

G. SSC Discussion and Recommendations

6. Island Fisheries

A. Main Hawaiian Island (MHI) Deep 7 Bottomfish Fishery

1. Report on the MHI Deep 7 Bottomfish Western Pacific Stock Assessment Review (WPSAR)

2. 2021 Deep 7 Bottomfish Stock Assessment Update

3. Updates to the Acceptable Biological Catch (Action Item)

B. Territorial Bottomfish Fisheries

1. Approaches for Managing the American Samoa Bottomfish Fishery

2. Impact Analyses of the Guam Bottomfish Management Unit Species (BMUS) Rebuilding Plan (Action Items)

C. Public Comment

D. SSC Discussion and Recommendations

Wednesday, March 17, 2021, 11 a.m. to 5 p.m.

A. Seabird Mitigation Measures in the Hawaii Longline Fishery

1. Options for Modifying Shallow-set Longline Fishery Seabird Mitigation Measures

2. Draft Tori Line Specifications for Deep-set Longline Fishery

B. Shallow-set Longline Reasonable and Prudent Measures Working Group Update

C. SSC Working Group on False Killer Whale Take Reduction Measures

D. Endangered Species Act (ESA) Consultations for the Hawaii Deep-set Longline Fishery, American Samoa Longline Fishery, and Bottomfish Fisheries

E. ESA and Marine Mammal Protection Act (MMPA) Updates

F. Public Comment

G. SSC Discussion and Recommendations

8. Pelagic Fisheries

A. American Samoa Longline Annual Fishery Report

B. Hawaii Longline Annual Fishery Report

C. Monte Carlo Analyses of Longline Mitigation Measures

D. Oceanic Whitetip Shark Working Group Report and Options Document to Address MSA 304(i) Obligations

E. Wire Leader Regulatory Amendment for the Hawaii Longline fishery (Action Item)

F. Addressing MSA 304(i) Obligations for Western & Central North Pacific Striped Marlin

1. Addressing Mitigation Measures to Move Towards Ending International Overfishing

2. US Catch Limits for Western & Central North Pacific Striped Marlin (Action Item)

G. International Fisheries

1. South Pacific Regional Fisheries Management Organization (SPRFMO) Science Committee

2. Report of Outcomes of the 17th Session of the Western Central Pacific Fisheries Commission (WCPFC)

3. Conceptual Frame for Workshop on Bigeye Tuna Management in Western Central Pacific Ocean (WCPO) Longline Fisheries

4. Outcomes of the 34th Fisheries and Agriculture Organization (FAO) Committee on Fisheries (COFI)

H. Public Comment

I. SSC Discussion and Recommendations

Thursday, March 18, 2021, 11 a.m. to 5 p.m.

9. Other Business

A. June 2021 SSC Meetings Dates

10. Summary of SSC Recommendations to the Council

Agenda for the Pelagic and International Standing Committee

Monday, March 22, 2021, 1 p.m. to 3 p.m.

1. Oceanic Whitetip Shark Working Group Report and Options Document to Address MSA 304(i) Obligations

2. Wire Leader Regulatory Amendment in Hawaii Longline Fisheries (Initial Action)

3. Addressing MSA 304(i) Obligations for Western & Central North Pacific Striped Marlin

A. Addressing Mitigation Measures to Move Towards Ending International Overfishing

B. US Catch Limits for Western & Central North Pacific Striped Marlin (Final Action)

4. Outcomes of the 34th FAO COFI

5. Advisory Group Report and Recommendations

5. Other Issues

6. Public Comment

7. Discussion and Recommendations

Agenda for the Executive and Budget Standing Committee

Monday, March 22, 2021, 3:30 p.m. to 5:30 p.m. (4 p.m. to 4:30 p.m. CLOSED)

1. Financial Reports

2. Administrative Reports

3. Coral Critical Habitat Working Group and Council Response

4. Council Family Changes

5. Update on Litigation (Closed Session—pursuant to MSA § 302(i)(3))

6. Meetings and Workshops

7. Other Issues

8. Public Comment

9. Discussion and Recommendations

Agenda for the 185th Council Meeting

Tuesday, March 23, 2021, 11 a.m. to 5 p.m.

1. Welcome and Introductions

2. Approval of the 185th Agenda

3. Approval of the 184th Meeting Minutes

4. Executive Director's Report

5. Agency Reports

A. National Marine Fisheries Service

1. Pacific Islands Regional Office

2. Pacific Islands Fisheries Science Center

B. NOAA Office of General Counsel Pacific Islands Section

C. Enforcement

1. U.S. Coast Guard

2. NOAA Office of Law Enforcement

3. NOAA Office of General Counsel Enforcement Section

D. U.S. State Department

E. U.S. Fish and Wildlife Service

F. Public Comment

G. Council Discussion and Action

6. Pelagic & International Fisheries

A. American Samoa Longline Annual Fishery Report

B. Hawaii Longline Annual Fishery Report

C. Oceanic Whitetip Shark Working Group Report and Options Document to Address MSA 304(i) Obligations

D. Wire Leader Regulatory Amendment in Hawaii Longline Fisheries (Initial Action)

E. Addressing MSA 304(i) Obligations for Western & Central North Pacific Striped Marlin

1. Addressing Mitigation Measures to Move Towards Ending International Overfishing

2. U.S. Catch Limits for Western & Central North Pacific Striped Marlin (Final Action)

F. International Fisheries

1. Report of Outcomes of the SPRFMO Meeting

2. Report of Outcomes of the 17th Session of the WCPFC

3. Conceptual Frame for Workshop on Bigeye Tuna Management in WCPO Longline Fisheries

4. Outcomes of the 34th FAO COFI

G. Advisory Group Report and Recommendations

1. Pelagic Plan Team

2. Advisory Panel

3. Fishing Industry Advisory Committee

4. Non-Commercial Fishing Advisory Committee

5. Scientific & Statistical Committee

H. Standing Committee Report and Recommendations

I. Public Comment

J. Council Discussion and Action

Tuesday, March 23, 2021, 4:30 p.m. to 5 p.m.

Public Comment on Non-Agenda Items

Wednesday, March 24, 2021, 11 a.m. to 5 p.m.

7. Protected Species

A. Seabird Mitigation Measures

1. Options for Modifying Shallow-set Longline Fishery Seabird Mitigation Measures

2. Draft Tori Line Specifications for Deep-set Longline Fishery

B. Shallow-set Longline Reasonable and Prudent Measures Working Group Update

C. ESA Consultations for the Hawaii Deep-set Longline Fishery, American Samoa Longline Fishery, and Bottomfish Fisheries

D. ESA and MMPA Updates

E. Coral Critical Habitat Working Group and Council Response

F. Advisory Group Report and Recommendations

1. Pelagic Plan Team

2. Advisory Panel

3. Fishing Industry Advisory Committee

4. Non-Commercial Fishing Advisory Committee

5. Scientific & Statistical Committee

G. Public Comment

H. Council Discussion and Action

8. American Samoa Archipelago

A. Motu Lipoti

B. Department of Marine and Wildlife Resources Report

1. CARES Act distribution of funds

2. Coral Reef Fishery Management Plan

C. Department of Commerce Alia Tele Project

D. Post Authority Malaloa Commercial Dock Extension Update

E. American Samoa Bottomfish Fisheries

1. Territorial Bottomfish Fishery Management Plan

2. Approaches for Bottomfish Fishery Management

F. Advisory Group Report and Recommendations

1. Advisory Panel

2. Fishing Industry Advisory Committee

3. Non-Commercial Fishing Advisory Committee

4. Scientific & Statistical Committee

G. Public Comment

H. Council Discussion and Action

9. Mariana Archipelago

A. Guam

1. Isla Informe

2. Department of Agriculture/Division of Aquatic and Wildlife Resources Report

a. CARES Act distribution of funds

b. Mandatory Licensing and Reporting

c. Coral Reef Fishery Management Plan

3. Environmental Assessment of the Guam Bottomfish Stock Rebuilding Plan (Final Action)

4. Socio-Economic Context for Fisher-Shark Interaction in the Marianas

B. CNMI

1. Arongol Falú

2. Department of Land and Natural Resources (DLNR)/Division of Fish and Wildlife Report

a. CARES Act distribution of funds

b. Mandatory Licensing and Reporting Implementation

C. Advisory Group Reports and Recommendations

1. Advisory Panel

2. Fishing Industry Advisory Committee

3. Non-Commercial Fishing Advisory Committee

4. Scientific & Statistical Committee

D. Public Comment

E. Council Discussion and Action

Thursday, March 25, 2021, 11 a.m. to 5 p.m.

10. Program Planning and Research

A. National Legislative Report

B. NMFS Briefing on Executive Order 14008 on Tackling the Climate Crisis at Home and Abroad

C. Three Year SSC Plan

D. Updates on the CatchIt LogIt Implementation

E. Integration of the `CatchIt LogIt' app information into fisheries assessments and monitoring

F. Fisheries 101 Capacity Building

G. Updates to the Pacific Island Stock Assessment Prioritization

H. Regional Communications & Outreach Report

I. Advisory Group Report and Recommendations

1. Advisory Panel

2. Fishery Data Collection and Research Committee

3. Fishing Industry Advisory Committee

4. Non-Commercial Fishing Advisory Committee

5. Scientific & Statistical Committee

J. Public Comment

K. Council Discussion and Action

11. Hawai`i Archipelago & Pacific Remote Island Areas (PRIA)

A. Moku Pepa

B. DLNR/Division of Aquatic Resources Report

1. CARES Act funding distribution

C. Main Hawaiian Island Deep 7 Bottomfish Fishery

1. Updates to the Deep 7 Bottomfish Complex Stock Assessment

2. Report on the WPSAR of the Deep 7 Bottomfish Update

3. Update to the Deep 7 Bottomfish Annual Catch Limits (Initial Action)

D. Hawaii Non-Commercial Data Collection Plans

E. Advisory Group Report and Recommendations

1. Advisory Panel

2. Fishing Industry Advisory Committee

3. Non-Commercial Fishing Advisory Committee

4. Scientific & Statistical Committee

F. Public Comment

G. Council Discussion and Action

12. Administrative Matters

A. Financial Reports

B. Administrative Reports

C. Council Coordination Committee

D. Council Family Changes

E. Meetings and Workshops

F. Standing Committee Report and Recommendations

G. Public Comment

H. Council Discussion and Action

13. Other Business

Non-emergency issues not contained in this agenda may come before the Council for discussion and formal Council action during its 185th meeting. However, Council action on regulatory issues will be restricted to those issues specifically listed in this document and any regulatory issue arising after publication of this document that requires emergency action under section 305(c) of the Magnuson-Stevens Act, provided the public has been notified of the Council's intent to take action to address the emergency.

Special Accommodations

These meetings are accessible to people with disabilities. Requests for sign language interpretation or other auxiliary aids should be directed to Kitty M. Simonds, (808) 522-8220 (voice) or (808) 522-8226 (fax), at least 5 days prior to the meeting date.

Authority: 16 U.S.C. 1801 et seq.

Dated: February 22, 2021.
Tracey L. Thompson,
Acting Deputy Director, Office of Sustainable Fisheries, National Marine Fisheries Service.

[FR Doc. 2021-03911 Filed 2-24-21; 8:45 am]

BILLING CODE 3510-22-P